DEPARTMENT OF COMMERCE

Office of Secretary

Agency Information Collection Activities; Submission to the Office of Management and Budget (OMB) Review and Approval; Comment Request; The Environmental Questionnaire and Checklist

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 31, 2023, during a 60-day comment period. This notice allows for an additional 30 days for public comments.

Agency: Office of Facilities and Environmental Quality, Commerce.

Title: The Environmental Questionnaire and Checklist.

OMB Control Number: 0690-0028.

Form Number(s): CD-593.

Type of Request: Regular submission (an extension of a current information collection).

Number of Respondents: 1,000.

Average Hours per Response: 3 hours.

Burden Hours: 3,000.

Needs and Uses: This request is for an extension of a currently approved information collection. The National Environmental Policy Act (NEPA) (42 U.S.C. 4321-4347) and the Council on Environmental Quality's (CEQ) Regulations for Implementing NEPA (40 CFR parts 1500-1508) require that federal agencies complete an environmental analysis for all major federal actions significantly affecting the environment. Those actions may include a federal agency's decision to fund non-federal projects under grants and cooperative agreements, including infrastructure projects. In order to determine NEPA compliance requirements for a project receiving Department of Commerce (DOC) bureau level funding, DOC must assess information which can only be provided by the applicant for federal financial assistance (grant).

The Environmental Questionnaire and Checklist (EQC) provides federal financial assistance applicants and DOC staff with a tool to ensure that the necessary project and environmental information is obtained. The EQC was developed to collect data concerning potential environmental impacts that the applicant for federal financial assistance possesses and to transmit that information to the Federal reviewer. The EQC will allow for a more rapid review of projects and facilitate DOC's evaluation of the potential environmental impacts of a project and the level of NEPA documentation required. DOC staff will use the information provided in answers to the questionnaire to determine compliance requirements for NEPA and conduct subsequent NEPA analysis as needed. Information provided in the questionnaire may also be used for other regulatory review requirements associated with the proposed project, such as the National Historic Preservation Act.

Affected Public: Individuals or households; Business or other for-profit organizations; Not-for-profit institutions; State, Local or Tribal Government; Federal Government, etc.

Frequency: One-Time; annually.

Respondent's Obligation: Voluntary.

Legal Authority: 42 U.S.C. 4321 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0690-0028.

Sheleen Dumas,
Department PRA Clearance Officer, Office of the Under Secretary of Economic Affairs, Commerce Department.

[FR Doc. 2023-18226 Filed 8-23-23; 8:45 am]

BILLING CODE 3510-NW-P